DEPARTMENT OF ENERGY

Federal Energy Regulatory Commission

[Docket No. RP00-423-001]

Discovery Gas Transmission LLC; Notice of Compliance Filing

August 14, 2000.

Take notice that on August 8, 2000, Discovery Gas Transmission LLC (“Discovery”) filed tariff sheets to correct pagination and file formatting errors. Discovery requests that Second Revised Sheet No. 152 and Third Revised Sheets No. 154 be substituted for Third Revised Sheet No. 152 and Fourth Revised Sheet No. 154 submitted in Discovery's August 1, 2000, filing.

Applicants' designated contact person for this proceeding is Linda L. Geoghegan, 1111 Bagby Street, Houston, Texas 77002, 713-752-6067.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222) for assistance).

David P. Boergers,
Secretary.

[FR Doc. 00-21021 Filed 8-17-00; 8:45 am]

BILLING CODE 6717-01-M